FEDERAL RESERVE SYSTEM

12 CFR Part 226

Truth in Lending (Regulation Z)

CFR Correction

In Title 12 of the Code of Federal Regulations, Parts 220 to 229, revised as of January 1, 2018, on page 414, in § 226.43, paragraph (1) after paragraph (b)(2) and before paragraph (b)(3) is removed.

[FR Doc. 2018-17793 Filed 8-15-18; 8:45 am]

BILLING CODE 1301-00-D